NATIONAL AERONAUTICS AND SPACE ADMINISTRATION

[Notice: (16-022)]

NASA Advisory Council; Meeting

AGENCY: National Aeronautics and Space Administration.

ACTION: Notice of meeting.

SUMMARY: In accordance with the Federal Advisory Committee Act, Public Law 92-463, as amended, the National Aeronautics and Space Administration (NASA) announces a meeting of the NASA Advisory Council.

DATES: Thursday, March 31, 2016, 9:00 a.m.-5:30 p.m.; and Friday, April 1, 2016, 9:00 a.m.-3:00 p.m., Local Time.

ADDRESSES: NASA Headquarters, Room 9H40, Program Review Center (PRC), 300 E Street SW., Washington, DC 20546.

FOR FURTHER INFORMATION CONTACT: Ms. Marla King, NAC Administrative Officer, NASA Headquarters, Washington, DC 20546, (202) 358-1148.

SUPPLEMENTARY INFORMATION: This meeting will be open to the public to the meeting capacity of the room. This meeting is also available telephonically and by WebEx. You must use a touch tone phone to participate in this meeting. Any interested person may dial the toll free number 1-888-989-4389 or toll number 1-630-395-0279, passcode: 3927350 for both days.

Note: If dialing in, please “mute” your telephone. To join via WebEx, the link is https://nasa.webex.com/; the meeting number is 997 580 809 and the meeting password is MARCH2016! for both days (password is case sensitive). The agenda for the meeting will include the following:

—Aeronautics Committee Report

—Human Exploration and Operations Committee Report

—Institutional Committee Report

—Science Committee Report

—Technology, Innovation and Engineering Committee Report

Attendees will be requested to sign a register and to comply with NASA security requirements, including the presentation of a valid picture ID before receiving access to NASA Headquarters. Due to the Real ID Act, Public Law 109-13, any attendees with drivers licenses issued from non-compliant states/territories must present a second form of ID [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Illinois, Minnesota, Missouri, New Mexico and Washington. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Ms. Marla King via email at marla.k.king@nasa.gov. To expedite admittance, U.S. citizens and Permanent Residents (green card holders) are requested to provide full name and citizenship status no less than 3 working days prior to the meeting to Ms. Marla King via email at marla.k.king@nasa.gov. It is imperative that the meeting be held on this date to accommodate the scheduling priorities of the key participants.

Patricia D. Rausch,
Advisory Committee Management Officer, National Aeronautics and Space Administration.

[FR Doc. 2016-05615 Filed 3-11-16; 8:45 am]

BILLING CODE 7510-13-P